LEGAL SERVICES CORPORATION

Sunshine Act Meeting of the Board of Directors

Time and Date: The Board of Directors of the Legal Services Corporation will meet November 22, 2003 from 11 a.m. until 5 p.m. and continue on November 23, 2003, from 10 a.m. until conclusion of the Board's agenda.

Location: November 22, 2003: The Association of the Bar of the City of New York, 42 West 44th Street, New York, NY 10036. November 23, 2003: The Royalton Hotel, 44 West 44th Street, New York, NY 10036.

Status of Meeting: Open, except that a portion of the meeting may be closed pursuant to a vote of the Board of Directors to hold an executive session. At the closed session, the Corporation's General Counsel will report to the Board on litigation to which the Corporation is or may become a party, and the Board may act on the matters reported. The closing is authorized by the relevant provisions of the Government in the Sunshine Act [5 U.S.C. 552(b)(2), (6), (7), (9)(b), and (10)] and the corresponding provisions of the Legal Services Corporation's implementing regulation [45 CFR section 1622.5(a), (e), (f), (g), and (h)]. A copy of the General Counsel's Certification that the closing is authorized by law will be available upon request.

Matters to be Considered:

Open Session

1. Approval of agenda.

2. Approval of the minutes of the Board's meeting of September 15, 2003.

3. Approval of the minutes of the Executive Session of the Board's meeting of September 15, 2003.

4. Approval of the minutes of the Executive Session of the Board's meeting of November 4, 2003.

5. Approval of the minutes of the Search Committee for LSC President and Inspector General's meeting of October 28, 2003.

6. Approval of the minutes of the Search Committee for LSC President and Inspector General's meeting of November 10, 2003.

7. Remarks by Maria Imperial, Executive Director for the New York City Bar Fund, addressing the Association of the Bar of the City of New York's partnership with Legal Services for New York City (LSNY).

8. Chairman's Report.

9. Members' Reports.

10. Acting Inspector General's Report.

11. Consider and act on the report of the Board's Provision for the Delivery of Legal Services Committee.

12. Consider and act on the report of the Board's Finance Committee.

13. Consider and act on the report of the Board's Operations & Regulations Committee.

14. Consider and act on the report of the Board's Search Committee for LSC President and Inspector General.

15. Consider and act on the Board of Directors' Semi-Annual Report to Congress for the period of April 1, 2003 through September 30, 2003.

16. Consider and act on possible changes to LSC's organizational chart and lines of reporting.

17. Consider and act on the postponement of the Board's 2004 Annual Meeting from Friday, January 30, 2004 to Saturday, January 31, 2004.

18. Consider and act on other business.

19. Public comment.

20. Consider and act on whether to authorize an executive session of the Board to address items listed below under Closed Session.

Closed Session

21. Report ¹ on follow-up to personnel item acted on by the Board in executive session meeting held on November 4, 2003.

¹ Any portion of the closed session consisting solely of staff briefings and/or reports does not fall within the Sunshine Act's definition of the term “meeting” and, therefore, the requirements of the Sunshine Act do not apply to any such portion of the closed session. 5 U.S.C. 552(b)(a)(2) and (b). See also 45 CFR 1622.2 & 1622.3.

22. Briefing ² by the Acting Inspector General on the activities of the Office of Inspector General.

² See Footnote 1.

23. Consider and act on the Office of Legal Affairs' report on potential and pending litigation involving LSC.

24. Consider and act on options available to compensate the LSC President.

25. Interviews of select candidates for the position of LSC President.

26. Review and discussion of interviewed candidates.

27. Consider and act on further steps to be taken in connection with the selection and retention of a finalist for the office of President.

Open Session

28. Consider and act on adjournment of meeting.

FOR FURTHER INFORMATION CONTACT: Victor M. Fortuno, Vice President for Legal Affairs, General Counsel & Corporate Secretary, at (202) 295-1500.

Special Needs: Upon request, meeting notices will be made available in alternate formats to accommodate visual and hearing impairments. Individuals who have a disability and need an accommodation to attend the meeting may notify Elizabeth S. Cushing, at (202) 295-1500.

Dated: November 13, 2003.
Victor M. Fortuno,
Vice President for Legal Affairs, General Counsel & Corporate Secretary.

[FR Doc. 03-28855 Filed 11-13-03; 4:55 pm]

BILLING CODE 7050-01-P